DEPARTMENT OF HOMELAND SECURITY

Coast Guard

33 CFR Parts 100 and 165

[Docket No. USCG-2011-0109]

RIN 1625-AA08; AA00

Special Local Regulations and Safety Zones; Recurring Events in Captain of the Port Boston Zone

AGENCY: Coast Guard, DHS.

ACTION: Final rule.

SUMMARY: The Coast Guard is amending special local regulations (SLR) and establishing permanent safety zones in the Coast Guard Sector Boston Captain of the Port (COTP) Zone for annually recurring marine events. The revised SLRs and safety zones are implemented to reduce administrative overhead, expedite public notification of events, and to ensure the protection of the maritime public and event participants from the hazards associated with firework displays, boat races, and other marine events.

DATES: This rule is effective December 9, 2011.

ADDRESSES: Comments and material received from the public, as well as documents mentioned in this preamble as being available in the docket, are part of docket USCG-2011-0109 and are available online by going to http://www.regulations.gov, inserting USCG-2011-0109 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mark Cutter of the Waterways Management Division, U.S. Coast Guard Sector Boston; telephone (617) 223-4000, email Mark.E.Cutter@uscg.mil. If you have questions on viewing or submitting material to the docket, call Renee V. Wright, Program Manager, Docket Operations, telephone (202) 366-9826.

SUPPLEMENTARY INFORMATION:

Regulatory Information

On June 28, 2011, we published a notice of proposed rulemaking (NPRM) entitled: Special Local Regulations and Safety Zones; Recurring Events in Captain of the Port Boston Zone, in the Federal Register (76 FR 37690). We did not receive any comments on the proposed rule. No public meeting was requested, and none was held.

Basis and Purpose

The legal basis for this rule is 33 U.S.C. 1226, 1231, 1233; 46 U.S.C. Chapter 454, 701, 3306, 3703; 50 U.S.C. 191, 195; Public Law 107-295, 116 Stat. 2064; and Department of Homeland Security Delegation No. 0170.1, which collectively authorize the Coast Guard to define regulatory safety zones and SLRs.

Marine events are annually held on a recurring basis on the navigable waters within the Coast Guard COTP Boston Zone. These events include fireworks displays, swim events, and other marine events. In the past, the Coast Guard has established SLRs, regulated navigation areas, and safety zones for these events individually to ensure the protection of the maritime public and event participants from the hazards associated with these marine events. Issuing individual regulations annually has proved to be administratively cumbersome.

This rule will significantly relieve administrative overhead and consistently apprise the public in a timely manner through permanent publication in Title 33 of the Code of Federal Regulations. The Tables in this regulation list each recurring marine event requiring a regulated area as administered by the Coast Guard.

By establishing a permanent regulation containing these events, the Coast Guard will eliminate the need to establish temporary rules for events that occur on an annual basis. This limits the unnecessary burden of continually establishing temporary rules every year.

This rulemaking amends, removes, and adds regulations that better meet the Coast Guard's intended purpose of ensuring safety during these events.

The Coast Guard has also identified a number of events in 33 CFR part 100 which would be more appropriately located in 33 CFR part 165. This rule amends local regulations contained in 33 CFR part 100 to move firework displays to part 165, a citation that better meets the Coast Guard's intended purpose of ensuring safety during these events.

The Coast Guard has promulgated safety zones or SLRs for these areas in the past, and has not received public comments or concerns regarding the impact to waterway traffic from these annually recurring events.

Background

The Coast Guard is revising section 33 CFR 100.114, and adding sections 33 CFR 100.130, and 33 CFR 165.118. The changes remove nine outdated regulated areas and establish 43 new permanent regulated areas. The rule applies to each recurring marine event listed in the attached TABLES in the Coast Guard COTP Boston Zone. The TABLES provide the event name, sponsor, and type, as well as approximate dates and locations of the events. Notifications will be made to the local maritime community through the Local Notice to Mariners and/or Broadcast Notice to Mariners well in advance of the events. If the event does not have a date listed, then exact dates and times of the enforcement period will be announced through a Notice of Enforcement in the Federal Register.

The particular size of the safety zones established for each event will be reevaluated on an annual basis in accordance with Navigational and Vessel Inspection Circular (NVIC) 07-02, Marine Safety at Firework Displays, the National Fire Protection Association Standard 1123, Code for Fireworks Displays (70-foot distance per inch of diameter of the fireworks mortars), and other pertinent regulations and publications.

This regulation prevents persons and vessels from transiting areas specifically designated as SLRs or safety zones during the periods of enforcement to ensure the protection of the maritime public and event participants from the hazards associated with listed marine events. Only event sponsors, designated participants, and official patrol vessels will be allowed to enter safety zones and SLR areas. Spectators and other vessels not registered as event participants may not enter the regulated areas without the permission of the COTP or the designated representatives.

All persons and vessels shall comply with the instructions of the COTP Boston or the designated on-scene representative. Entering into, transiting through, mooring or anchoring within the regulated areas is prohibited unless authorized by the COTP Boston or the designated on scene representative.

Discussion of Comments and Changes

We did not receive any comments to the proposed rule.

Regulatory Analyses

We developed this rule after considering numerous statutes and executive orders related to rulemaking. Below we summarize our analyses based on 13 of these statutes or executive orders.

Executive Order 12866 and Executive Order 13563

This rule is not a significant regulatory action under section 3(f) of Executive Order 12866, Regulatory Planning and Review, as supplemented by Executive Order 13563, and does not require an assessment of potential costs and benefits under section 6(a)(3) of that Order. The Office of Management and Budget has not reviewed it under that Order.

The Coast Guard determined that this rule is not a significant regulatory action for the following reasons: vessels will only be restricted from safety zones and SLR areas for a short duration of time unless otherwise noted; vessels may transit in portions of the affected waterway except for those areas covered by the safety zones; the Coast Guard has promulgated safety zones or SLRs in accordance with 33 CFR parts 100 and 165 for all event areas in the past and has not received notice of any negative impact caused by any of the safety zones or SLRs. Reasonable notifications will also be made by Local Notice to Mariners (LNM) and Broadcast Notice to Mariners (BNM) well in advance of the events.

The effect of this action simply establishes locations or the approximate dates on which the existing regulations would be enforced and consolidates them within one regulation. No new or additional restrictions would be imposed on vessel traffic.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: owners or operators of vessels intending to transit, fish, or anchor in the areas where marine events are being held. For the reasons outlined above, this rule would not have a significant impact on a substantial number of small entities.

Assistance for Small Entities

Under section 213(a) of the Small Business Regulatory Enforcement Fairness Act of 1996 (Pub. L. 104-121), in the NPRM we offered to assist small entities in understanding this rule so that they can better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-(888) 734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded, under figure 2-1, paragraphs (34)(g) and (h), of the Instruction. This rule involves the establishment of safety zones and special local regulations in support of marine events. An environmental analysis checklist and a categorical exclusion determination are available in the docket where indicated under ADDRESSES.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard amends 33 CFR parts 100 and 165 as follows:

PART 100—SAFETY OF LIFE ON NAVIGABLE WATERS

1. The authority citation for part 100 continues to read as follows:

Authority: 33 U.S.C. 1233.

§ 100.114 [Amended]

2. Remove the following entries in the “Fireworks Display Table” in 33 CFR 100.114 (along with the associated “Massachusetts” titles):

a. 100.114(5.1) including the Table heading for “MAY”;

b. 100.114(7.6);

c. 100.114(7.7);

d. 100.114(7.9);

e. 100.114(7.178);

f. 100.114(7.23);

g. 100.114(8.7);

h. 100.114(9.1); and

i. 100.114(12.1).

3. Add § 100.130 to read as follows:

§ 100.130 Special Local Regulations; Recurring Annual Marine Events in Sector Boston Captain of the Port Zone

This section applies to the marine events listed in Table 1 of this section. The regulations in this section will be enforced for the duration of each event, on or about the dates indicated in Table 1 of this section. Annual notice of the exact dates and times of the effective period of the regulations in this section with respect to each event, the geographical description of each regulated area, and details concerning the nature of the event and the number of participants and type(s) of vessels involved will be provided to the local maritime community through the Local Notice to Mariners and/or Broadcast Notice to Mariners well in advance of the events. If the event does not have a date listed, then the exact dates and times of the enforcement will be announced through a Notice of Enforcement in the Federal Register. Mariners should consult the Federal Register or their LNM to remain apprised of minor schedule or event changes. First Coast Guard District LNM can be found at: http://www.navcen.uscg.gov/. The Sector Boston Marine Events schedule can also be viewed electronically at http://www.homeport.uscg.mil. Although listed in the Code of Federal Regulations, sponsors of events listed in Table 1 of this section are still required to submit a marine event permit application in accordance with 33 CFR 100.15.

(a) The Coast Guard may patrol each event area under the direction of a designated Coast Guard Patrol Commander (PATCOM). PATCOM may be contacted on Channel 16 VHF-FM (156.8 MHz) by the call sign “PATCOM.” Official patrol vessels may consist of any Coast Guard, Coast Guard Auxiliary, state, or local law enforcement vessels assigned or approved by the Captain of the Port, Sector Boston.

(b) Vessels may not transit the regulated areas without PATCOM approval. Vessels permitted to transit must operate at a no wake speed, in a manner which will not endanger participants or other crafts in the event.

(c) Spectators or other vessels shall not anchor, block, loiter, or impede the transit of event participants or official patrol vessels in the regulated areas during the effective dates and times, or dates and times as modified through LNM, unless authorized by an official patrol vessel.

(d) PATCOM may control the movement of all vessels in the regulated area. When hailed or signaled by an official patrol vessel, a vessel shall come to an immediate stop and comply with the lawful directions issued. Failure to comply with a lawful direction may result in expulsion from the area, citation for failure to comply, or both.

(e) PATCOM may delay or terminate any marine event in this subpart at any time it is deemed necessary to ensure the safety of life or property. Such action may be justified as a result of weather, traffic density, spectator operation or participant behavior.

(f) For all power boat races listed, vessels operating within the regulated area must be at anchor within a designated spectator area or moored to a waterfront facility in a way that will not interfere with the progress of the event.

(g) For all regattas, boat parades, and rowing and paddling boat races, vessels not associated with the event shall maintain a separation of at least 50 yards from the participants.

Table 1
3.0 | MARCH
3.1 Hull Snow Row | • Event Type: Rowing Regatta.
| • Sponsor: Hull Lifesaving Museum.
| • Date: A one-day event on Saturday during the second weekend of March, as specified in the USCG District 1 Local Notice to Mariners.
| • Time: 12:00 pm to 13:00 pm.
| • Location: All waters of Hingham Bay, between Windmill Point and Sheep's Island within the following points (NAD 83):
| 42°18.3′ N, 070°55.8′ W.
| 42°18.3′ N, 070°55.3′ W.
| 42°16.6′ N, 070°54.9′ W.
| 42°16.6′ N, 070°56.0′ W.
6.0 | JUNE
6.1 Sea-Doo Regional Championships | • Event Type: PWC Race. • Sponsor: Toyota.
| • Date: A two-day event on Saturday and Sunday during the first weekend of June, as specified in the USCG District 1 Local Notice to Mariners.
| • Time: 6:30 am to 5:00 pm daily.
| • Location: All waters of the Atlantic Ocean near Salisbury Beach, Salisbury, MA, within a 100-yard radius of the race course site located at position 42°51.5′ N, 070°48.5′ W (NAD 83).
8.0 | AUGUST
8.1 Haverhill River Run | • Event Type: Power Boat Race.
| • Sponsor: Crescent Yacht Club and South Shore Outboard Association.
| • Date: A two-day event on Saturday and Sunday during the last weekend of August, as specified in the USCG District 1 Local Notice to Mariners.
| • Time: 12:00 pm to 5:00 pm.
| • Location: All waters of the Merrimack River, between the Interstate 495 Highway Bridge, located at position 42°46.1′ N, 071°07.2′ W (NAD 83), and the Haverhill-Groveland SR97/113 Bridge, located at position 42°45.8′ N, 071°02.1′ W (NAD 83).

PART 165—REGULATED NAVIGATION AREAS AND LIMITED ACCESS AREAS

4. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

5. Add § 165.118 to read as follows:

§ 165.118 Safety Zones; Recurring Annual Events held in Coast Guard Sector Boston Captain of the Port Zone.

The Coast Guard is establishing safety zones for the events listed in Table 1 of this section. These regulations in this section will be enforced for the duration of each event, on or about the dates indicated in Table 1 of this section. Annual notice of the exact dates and times of the effective period of the regulations in this section with respect to each event, the geographical description of each regulated area, and details concerning the nature of the event and the number of participants and type(s) of vessels involved will be made to the local maritime community through the Local Notice to Mariners and/or Broadcast Notice to Mariners well in advance of the events. If the event does not have a date listed, then the exact dates and times of the enforcement will be announced through a Notice of Enforcement in the Federal Register. Mariners should consult the Federal Register or their LNM to remain apprised of minor schedule or event changes. First Coast Guard District LNM can be found at: http://www.navcen.uscg.gov/. The Sector Boston Marine Events schedule can also be viewed electronically at: http://www.homeport.uscg.mil. Although listed in the Code of Federal Regulations, sponsors of events listed in Table 1 of this section are still required to submit a marine event permit application each year in accordance with 33 CFR 100.15.

(a) The Coast Guard may patrol each event area under the direction of a designated Coast Guard Patrol Commander. The Patrol Commander may be contacted on Channel 16 VHF-FM (156.8 MHz) by the call sign “PATCOM.” Official patrol vessels may consist of any Coast Guard, Coast Guard Auxiliary, state, or local law enforcement vessels assigned or approved by the Captain of the Port, Sector Boston.

(b) Vessels may not transit the regulated areas without Patrol Commander approval. Vessels permitted to transit must operate at a no wake speed, in a manner which will not endanger participants or other crafts in the event.

(c) Spectators or other vessels shall not anchor, block, loiter, or impede the movement of event participants or official patrol vessels in the regulated areas during the effective dates and times, or dates and times as modified through the LNM, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any marine event in this subpart at any time it is deemed necessary to ensure the safety of life or property. Such action may be justified as a result of weather, traffic density, spectator operation or participant behavior.

(f) For all fireworks displays listed below, the regulated area is that area of navigable waters within a 350-yard radius of the launch platform or launch site for each fireworks display, unless modified in the LNM at: http://www.navcen.uscg.gov/.

(g) For all swimming events listed, vessels not associated with the event shall maintain a distance of at least 100 yards from the participants.

Table 1
6.0 | JUNE
6.1 Sand and Sea Festival Fireworks | • Event Type: Fireworks Display. • Sponsor: Salisbury Beach Partnership, Inc.
| • Date: A one-night event on Saturday during the last weekend of June, as specified in the USCG District 1 Local Notice to Mariners.
| • Time: 10:00 pm to 10:30 pm.
| • Location: All waters of the Atlantic Ocean near Salisbury Beach within a 350-yard radius of the fireworks launch site located at position 42°50.6′ N, 70°48.4′ W (NAD 83).
6.2 St. Peter's Fiesta Fireworks | • Event Type: Fireworks Display.
| • Sponsor: St. Peters Fiesta.
| • Date: A one-night event on Saturday during the last weekend of June, as specified in the USCG District 1 Local Notice to Mariners.
| • Time: 8:00 pm to 10:00 pm.
| • Location: All waters of Gloucester Harbor, Stage Fort Park, within a 350-yard radius of the fireworks launch site on the beach located at position 42°36.3′ N, 070°40.5′ W (NAD 83).
6.3 Surfside Fireworks | • Event Type: Fireworks Display.
| • Sponsor: Salisbury Beach Partnership and Chamber of Commerce.
| • Date: Every Saturday from June through September, as specified in the USCG District 1 Local Notice to Mariners.
| • Time: 9:30 pm to 10:30 pm.
| • Location: All waters of the Atlantic Ocean near Salisbury Beach, MA, within a 350-yard radius of the fireworks barge located at position 42°50.6′ N, 070°48.4′ W (NAD 83).
6.4 Cohasset Triathlon | • Event Type: Swim.
| • Sponsor: Bill Burnett.
| • Date: A one-day event on Sunday during the last weekend of June, as specified in the USCG District 1 Local Notice to Mariners.
| • Time: 08:30 am to 10:00 am.
| • Location: All waters in the vicinity of Cohasset Harbor around Sandy Beach, within the following points (NAD 83):
| 42°15.6′ N, 070°48.1′ W.
| 42°15.5′ N, 070°48.1′ W.
| 42°15.4′ N, 070°47.9′ W.
| 42°15.4′ N, 070°47.8′ W.
7.0 | JULY
7.1 City of Lynn 4th of July Celebration Fireworks | • Event Type: Firework Display. • Sponsor: City of Lynn. • Date: July 3rd, as specified in the USCG District 1 Local Notice to Mariners.
| • Time: 6:00 pm to 11:00 pm.
| • Location: All waters of Nahant Bay, within a 350-yard radius of the fireworks barge located at position 42°27.62′ N, 070°55.58′ W (NAD 83).
7.2 Gloucester July 4th Celebration Fireworks | • Event Type: Fireworks Display. • Sponsor: The Gloucester Fund. • Date: July 3rd, as specified in the USCG District 1 Local Notice to Mariners.
| • Time: 10:30 pm to 11:00 pm.
| • Location: All waters of Gloucester Harbor, Stage Fort Park, within a 350-yard radius of the fireworks launch site on the beach located at position 42°36.3′ N, 070°40.5′ W (NAD 83).
7.3 Manchester by the Sea Fireworks | • Event Type: Fireworks Display. • Sponsor: Manchester Parks and Recreation Department.
| • Date: July 4th, as specified in the USCG District 1 Local Notice to Mariners.
| • Time: 8:30 pm to 10:00 pm.
| • Location: All waters of Manchester Bay within a 350-yard radius of the fireworks launch site barge located at position 42°35.03′ N, 070°45.52′ W (NAD 83).
7.4 Weymouth 4th of July Celebration Fireworks | • Event Type: Fireworks Display. • Sponsor: Town of Weymouth 4th of July Committee.
| • Date: Friday or Saturday during the first weekend before July 4th, as specified in the USCG District 1 Local Notice to Mariners.
| • Time: 8:00 pm to 10:30 pm.
| • Location: All waters of Weymouth Fore River, within a 350-yard radius of the fireworks launch site located at position 42°15.5′ N, 070°56.1′ W (NAD 83).
7.5 Beverly 4th of July Celebration Fireworks | • Event Type: Fireworks Display. • Sponsor: Beverly Harbormaster. • Date: July 4th, as specified in the USCG District 1 Local Notice to Mariners.
| • Time: 9:00 pm to 11:00 pm.
| • Location: All waters of Beverly Harbor within a 350-yard radius of the fireworks launch barge located at position 42°32.62′ N, 070°52.15′ W (NAD 83).
7.6 Beverly Farms 4th of July Celebration Fireworks | • Event Type: Fireworks Display. • Sponsor: Farms-Pride 4th of July Committee.
| • Date: July 4th, as specified in the USCG District 1 Local Notice to Mariners.
| • Time: 9:00 pm to 9:30 pm.
| • Location: All waters of Manchester Bay within a 350-yard radius of the fireworks launch site near West Beach located at position 42°33.84′ N, 070°48.5′ W (NAD 83).
7.7 Boston Pops Fireworks | • Event Type: Fireworks Display. • Sponsor: Boston 4 Celebrations. • Date: July 4th, as specified in the USCG District 1 Local Notice to Mariners.
| • Time: 8:30 pm to 11:00 pm.
| • Location: All waters of the Charles River within a 350-yard radius of the fireworks barges located in the vicinity of position 42°21.47′ N, 071°05.03′ W (NAD 83).
7.8 City of Salem Fireworks | • Event Type: Fireworks Display. • Sponsor: City of Salem.
| • Date: July 4th, as specified in the USCG District 1 Local Notice to Mariners.
| • Time: 9:00 pm to 10:00 pm.
| • Location: All waters of Salem Harbor, within a 350-yard radius of the fireworks launch site located on Derby Wharf at position 42°31.15′ N, 070°53.13′ W (NAD 83).
7.9 Marblehead 4th of July Fireworks | • Event Type: Fireworks Display. • Sponsor: Town of Marblehead.
| • Date: July 4th, as specified in the USCG District 1 Local Notice to Mariners.
| • Time: 8:30 pm to 9:30 pm.
| • Location: All waters of Marblehead Harbor within a 350-yard radius of the fireworks launch site located at position 42°30.34′ N, 070°50.13′ W (NAD 83).
7.10 Plymouth 4th of July Fireworks | • Event Type: Fireworks Display. • Sponsor: July 4 Plymouth, Inc.
| • Date: July 4th, as specified in the USCG District 1 Local Notice to Mariners.
| • Time: 9:00 pm to 10:00 pm.
| • Location: All waters of Plymouth Harbor within a 350-yard radius of the fireworks launch site located at position 42°57.3′ N, 070°38.3′ W (NAD 83).
7.11 Town of Nahant Fireworks | • Event Type: Fireworks Display. • Sponsor: Town of Nahant.
| • Date: July 4th, as specified in the USCG District 1 Local Notice to Mariners.
| • Time: 9:00 pm to 11:00 pm.
| • Location: All waters of Nahant Harbor within a 350-yard radius of the fireworks launch site on Bailey's Hill Park located at position 42°25.1′ N, 070°55.8′ W (NAD 83).
7.12 Town of Revere Fireworks | • Event Type: Fireworks Display. • Sponsor: Town of Revere.
| • Date: July 4th, as specified in the USCG District 1 Local Notice to Mariners.
| • Time: 9:00 pm to 11:00 pm.
| • Location: All waters of Broad Sound, within a 350-yard radius of the fireworks launch site located at Revere Beach at position 42°24.5′ N, 070°59.47′ W (NAD 83).
7.13 Yankee Homecoming Fireworks | • Event Type: Fireworks Display. • Sponsor: Yankee Homecoming.
| • Date: A one-day event on Saturday during the last weekend of July or first weekend of August, as specified in the USCG District 1 Local Notice to Mariners.
| • Time: 9:00 pm to 10:00 pm.
| • Location: All waters of the Merrimack River, within a 350-yard radius of the fireworks launch site located at position 42°48.97′ N, 070°52.68′ W (NAD 83).
7.14 Hingham 4th of July Fireworks | • Event Type: Fireworks Display. • Sponsor: Hingham Lions Club.
| • Date: July 4th, as specified in the USCG District 1 Local Notice to Mariners.
| • Time: 8:00 pm to 10:00 pm.
| • Location: All waters within a 350-yard radius of the beach on Button Island located at position 42°15.07′ N, 070°53.03′ W (NAD 83).
7.15 Ipswich Independence Day Celebration Fireworks | • Event Type: Fireworks Display. • Sponsor: Trustees of the Foundation. • Date: July 4th, as specified in the USCG District 1 Local Notice to Mariners.
| • Time: 9:00 pm to 10:00 pm.
| • Location: All waters of Ipswich Bay within a 350-yard radius of the beach located at position 42°41.43′ N, 070°46.49′ W (NAD 83).
7.16 Salisbury Maritime Festival Fireworks | • Event Type: Fireworks Display. • Sponsor: Salisbury Beach Partnership, Inc.
| • Date: A one-day event on Saturday during the third weekend of July, as specified in the USCG District 1 Local Notice to Mariners.
| • Time: 10:00 pm to 10:30 pm.
| • Location: All waters of the Atlantic Ocean near Salisbury Beach within a 350-yard radius of the fireworks launch site located at position 42°50.6′ N, 070°48.4′ W (NAD 83).
7.17 Salisbury 4th of July Fireworks | • Event Type: Fireworks Display. • Sponsor: Salisbury Chamber of Commerce.
| • Date: July 4th, as specified in the USCG District 1 Local Notice to Mariners.
| • Time: 9:30 pm to 11:00 pm.
| • Location: All waters of the Atlantic Ocean near Salisbury Beach within a 350-yard radius of the fireworks launch site located at position 42°50.6′ N, 070°48.4′ W (NAD 83).
7.18 Charles River 1-Mile Swim | • Event Type: Swim. • Sponsor: Charles River Swimming Club, Inc.
| • Date: A one-day event held on the second Sunday in July, as specified in the USCG District 1 Local Notice to Mariners.
| • Time: 8:00 am to 9:00 am.
| • Location: All waters of Charles River between the Longfellow Bridge and the Harvard Bridge within the following points (NAD 83):
| 42°21.7′ N, 071°04.8′ W.
| 42°21.7′ N, 071°04.3′ W.
| 42°22.2′ N, 071°07.3′ W.
| 42°22.1′ N, 070°07.4′ W.
7.19 Swim Across America Boston | • Event Type: Swim. • Sponsor: Swim Across America.
| • Date: A one-day event on Friday during the third week of July, as specified in the USCG District 1 Local Notice to Mariners.
| • Time: 7:00 am to 3:00 pm.
| • Location: All waters of Boston Harbor between Rowes Warf and Little Brewster Island within the following points (NAD 83):
| 42°21.4′ N, 071°03.0′ W.
| 42°21.5′ N, 071°02.9′ W.
| 42°19.8′ N, 070°53.6′ W.
| 42°19.6′ N, 070°53.4′ W.
7.20 Joppa Flats Open Water Mile | • Event Type: Swim. • Sponsor: Newburyport YMCA.
| • Date: A one-day event on Saturday during the last week of July, as specified in the USCG District 1 Local Notice to Mariners.
| • Time: 3:00 pm to 5:00 pm.
| • Location: All waters of the Merrimack River located in the Joppa Flats within the following points (NAD 83):
| 42°48.6′ N, 070°50.9′ W.
| 42°48.6′ N, 070°49.4′ W.
| 42°48.0′ N, 070°49.4′ W.
| 42°48.0′ N, 070°57.0′ W.
7.21 Swim Across America Nantasket Beach | • Event Type: Swim. • Sponsor: Swim Across America.
| • Date: A one-day event on Sunday during the third week of July, as specified in the USCG District 1 Local Notice to Mariners.
| • Time: 7:00 am to 9:30 am.
| • Location: All waters of Massachusetts Bay near Nantasket Beach within the following points (NAD 83):
| 42°16.7′ N, 070°51.9′ W.
| 42°16.9′ N, 070°51.3′ W.
| 42°16.3′ N, 070°50.5′ W.
| 42°16.1′ N, 070°51.0′ W.
8.0 | August
8.1 Beverly Homecoming Fireworks | • Event Type: Fireworks Display. • Sponsor: Beverly Harbormaster.
| • Date: A one-day event on Sunday during the first weekend of August, as specified in the USCG District 1 Local Notice to Mariners.
| • Time: 9:00 pm to 11:00 pm.
| • Location: All waters of Beverly Harbor within a 350-yard radius of the fireworks barge located at position 42°32.62′ N, 070°52.15′ W (NAD 83).
8.2 Celebrate Revere Fireworks | • Event Type: Fireworks Display. • Sponsor: Town of Revere.
| • Date: A one-day event on Saturday during the first weekend of August, as specified in the USCG District 1 Local Notice to Mariners.
| • Time: 9:00 pm to 11:00 pm.
| • Location: All waters within a 350-yard radius of the fireworks launch site located at Revere Beach at position 42°24.5′ N, 070°59.47′ W (NAD 83).
8.3 Gloucester Fisherman Triathlon | • Event Type: Swim. • Sponsor: Gloucester Fisherman Athletic Association.
| • Date: A one-day event on Sunday during the Second week of August, as specified in the USCG District 1 Local Notice to Mariners.
| • Time: 7:30 am to 8:30 am.
| • Location: All waters of Western Harbor, within the following points (NAD 83):
| 42°36.6′ N, 070°40.3′ W.
| 42°36.5′ N, 070°40.2′ W.
| 42°36.4′ N, 070°40.7′ W.
| 42°36.5′ N, 070°40.7′ W.
8.4 Urban Epic Triathlon | • Event Type: Swim. • Sponsor: Tri-Maine/Urban Epic Events.
| • Date: A one-day event on Sunday during the second week of August, as specified in the USCG District 1 Local Notice to Mariners.
| • Time: 7:00 am to 10:00 am.
| • Location: All waters of Dorchester Bay within the following points (NAD 83):
| 42°18.9′ N, 071°02.0′ W.
| 42°18.9′ N, 071°01.8′ W.
| 42°19.5′ N, 071°01.8′ W.
| 42°19.8′ N, 071°02.2′ W.
8.5 Celebrate the Clean Harbor Swim | • Event Type: Swim. • Sponsor: New England Marathon Swimming Association.
| • Date: A one-day event on Saturday during the third week of August, as specified in the USCG District 1 Local Notice to Mariners.
| • Time: 9:00 am to 12:00 pm.
| • Location: All waters of Gloucester Harbor within the following points (NAD 83):
| 42°35.3′ N, 070°39.8′ W.
| 42°35.9′ N, 070°39.2′ W.
| 42°35.9′ N, 070°39.8′ W.
| 42°35.3′ N, 070°40.2′ W.
8.6 Boston Light Swim | • Event Type: Swim.
| • Sponsor: Boston Light Swim.
| • Date: A one-day event on Sunday during the second week of August, as specified in the USCG District 1 Local Notice to Mariners.
| • Time: 8:00 am to 1:00 pm.
| • Location: All waters of Boston Harbor between the L Street Bath House and Little Brewster Island within the following points (NAD 83):
| 42°19.7′ N, 071°02.2′ W.
| 42°19.9′ N, 071°10.7′ W.
| 42°19.8′ N, 070°53.6′ W.
| 42°19.6′ N, 070°53.4′ W.
8.7 Sharkfest Swim | • Event Type: Swim.
| • Sponsor: Enviro-Sports Productions, Inc.
| • Date: A one-day event on Sunday during the last week of August, as specified in the USCG District 1 Local Notice to Mariners.
| • Time: 10:00 am to 12:00 pm.
| • Location: All waters of Old Harbor from near Columbia Point to Carson Beach within the following points (NAD 83):
| 42°19.1′ N, 071°02.2′ W.
| 42°19.2′ N, 071°01.9′ W.
| 42°19.7′ N, 071°02.8′ W.
| 42°19.4′ N, 071°02.9′ W.
9.0 | SEPTEMBER
9.1 Gloucester Schooner Festival Fireworks | • Event Type: Fireworks Display. • Sponsor: Stage Fort Park Gloucester.
| • Date: A one-day event on Saturday during the first weekend of September, as specified in the USCG District 1 Local Notice to Mariners.
| • Time: 7:00 pm to 11:00 pm.
| • Location: All waters of Gloucester Harbor within a 350-yard radius of the launch site on the beach located at position 42°36.3′ N, 070°40.5′ W (NAD 83).
9.2 Plymouth Yacht Club Celebration Fireworks | • Event Type: Fireworks Display. • Sponsor: Plymouth Yacht Club. • Date: A one-day event on Saturday during the first weekend of September, as specified in the USCG District 1 Local Notice to Mariners.
| • Time: 9:00 pm to 11:00 pm.
| • Location: All waters of Plymouth Harbor within a 350-yard radius of the fireworks barge located at position 41°22.3′ N, 070°39.4′ W (NAD 83).
9.3 Somerville Riverfest Fireworks | • Event Type: Fireworks Display. • Sponsor: Federal Realty Investment Trust.
| • Date: A one-day event on Saturday during the last weekend of September, as specified in the USCG District 1 Local Notice to Mariners.
| • Time: 7:30 pm to 10:00 pm.
| • Location: All waters of the Mystic River within a 350-yard radius of the fireworks barge located at position 42°23.9′ N, 071°04.8′ W (NAD 83).
9.4 Mayflower Triathlon | • Event Type: Swim.
| • Sponsor: Fast Forward Race Management.
| • Date: A one-day event on Saturday during the first weekend of September, as specified in the USCG District 1 Local Notice to Mariners.
| • Time: 10:00 am to 11:00 am.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.5 Plymouth Rock Triathlon | • Event Type: Swim. • Sponsor: Fast Forward Race Management.
| • Date: A one-day event on Sunday during the first weekend of September, as specified in the USCG District 1 Local Notice to Mariners.
| • Time: 7:00 am to 9:30 am.
| • Location: All waters of Plymouth Inner Harbor within the following points (NAD 83):
| 41°58.3′ N, 070°40.6′ W.
| 41°58.7′ N, 070°39.1′ W.
| 41°56.8′ N, 070°37.8′ W.
| 41°57.1′ N, 070°39.2′ W.
9.6 Duxbury Beach Triathlon | • Event Type: Swim. • Sponsor: Duxbury Beach Triathlon.
| • Date: A one-day event on Saturday during the third weekend of September, as specified in the USCG District 1 Local Notice to Mariners.
| • Time: 08:30 am to 09:30 am.
| • Location: All waters of Duxbury Bay on the south side of the Powder Point Bridge within the following points (NAD 83):
| 42°02.8′ N, 070°39.1′ W.
| 42°03.0′ N, 070°38.7′ W.
| 42°02.8′ N, 070°38.6′ W.
| 42°02.7′ N, 070°39.0′ W.
10.0 | OCTOBER
10.1 Intercontinental Fireworks | • Event Type: Fireworks Display. • Sponsor: Intercontinental Hotel.
| • Date: A one-day event on Sunday during the last weekend of October, as specified in the USCG District 1 Local Notice to Mariners.
| • Time: 8:30 pm to 10:30 pm.
| • Location: All waters of Boston Inner Harbor within a 350-yard radius of the fireworks barge located at position 42°21.2′ N, 071°03′ W (NAD 83).
12.0 | DECEMBER
12.1 First Night Boston Fireworks | • Event Type: Fireworks Display. • Sponsor: First Night, Inc.
| • Date: A one-day event on New Year's Eve, as specified in the USCG District 1 Local Notice to Mariners.
| • Time: 11:30 pm to 12:30 am.
| • Location: All waters of Boston Inner Harbor within a 350-yard radius of the fireworks barge located at position 42°21.7′ N, 071°02.6′ W (NAD 83).

Dated: October 11, 2011.
John N. Healey,
Captain, U.S. Coast Guard, Captain of the Port Boston.

[FR Doc. 2011-29015 Filed 11-8-11; 8:45 am]

BILLING CODE 9110-04-P